DEPARTMENT OF COMMERCE

National Oceanic and Atmospheric Administration

50 CFR Part 648

[Docket No. 010410087-1087-01; I.D. 031401B]

RIN 0648-AO07

Fisheries of the Northeastern United States; Atlantic Sea Scallop Fishery; Framework Adjustment 14; Correction

AGENCY: National Marine Fisheries Service (NMFS), National Oceanic and Atmospheric Administration (NOAA), Commerce.

ACTION: Final rule; correction.

SUMMARY: On May 11, 2001, NMFS published final regulations implementing Framework 14 to the Atlantic Sea Scallop Fishery Management Plan (FMP). One of the measures implemented in the final rule was the continuation of the Hudson Canyon South and Virginia Beach Area closures originally implemented in 1998 and extended through August 8, 2001, through an interim final rule published on February 9, 2001. In the final rule implementing Framework 14, NMFS intended to extend the Mid-Atlantic closures through February 28, 2003, to scallop fishing with the exception of those vessels participating in the Sea Scallop Area Access Program. However, NMFS inadvertently only amended the regulatory text, which then expired on August 8, 2001. This document corrects those errors.

DATES: Effective May 1, 2001.

FOR FURTHER INFORMATION CONTACT: Peter W. Christopher, Fishery Policy Analyst, 978-281-9280; fax 978-281-9135; e-mail peter.christopher@noaa.gov.

SUPPLEMENTARY INFORMATION:

Background

On March 31, 1998, NMFS published an interim final rule (63 FR 15324) closing two Mid-Atlantic areas, the Hudson Canyon South and Virginia Beach Sea Scallop Closed Area, to scallop fishing to protect concentrations of juvenile scallops, to reduce fishing mortality, and to increase yield per recruit. The interim rule became effective from April 3, 1998, and was extended through March 26, 1999 (63 FR 51862, September 29, 1998). On March 29, 1999, NMFS published a final rule implementing Amendment 7 to the Atlantic Sea Scallop FMP. Under Amendment 7 and its implementing regulations, the two Mid-Atlantic area closures were extended through March 1, 2001. On February 9, 2001, NMFS issued an interim final rule extending the closures of the Mid-Atlantic closed areas on an interim basis for 180 days (i.e., August 8, 2001) or until such time that a controlled area access program for these two areas could be implemented through Framework 14 to the Atlantic Sea Scallop FMP, whichever came sooner. On May 1, 2001, NMFS published a final rule (66 FR 21639) implementing Framework 14. However, because this rule contained numerous errors, the document was reprinted in its entirety on May 11, 2001 (66 FR 24052). The final rule implementing Framework 14 became effective on May 1, 2001. That final rule amended portions of § 648.57, Closed and regulated areas. However, § 648.57 was scheduled to expire on August 8, 2001, and, therefore, the “amendments” to § 648.57 implemented under Framework 14 also inadvertently expired on August 8, 2001. NMFS is correcting amendatory instruction 6 of the final rule implementing Framework 14 by “adding” § 648.57 to 50 CFR part 648 and is publishing the regulatory text for this section in its entirety.

Need for Correction

As published, the final regulations published on May 11, 2001 (66 FR 24052) contain errors which may prove to be misleading and are in need of clarification.

List of Subjects in 50 CFR Part 648

Fisheries, Fishing, Reporting and recordkeeping requirements.

Dated: August 23, 2001.
John Oliver
Acting Assistant Administrator for Fisheries, National Marine Fisheries Service.

For the reasons set out in the preamble, 50 CFR part 648 is corrected as follows:

PART 648—FISHERIES OF THE NORTHEASTERN UNITED STATES

1. The authority citation for part 648 continues to read as follows:

Authority: 16 U.S.C. 1801 et seq.

2. Section 648.57 is added to read as follows:

§ 648.57 Closed and regulated areas.

(a) Hudson Canyon Sea Scallop Access Area. Through February 28, 2003, except as provided in §§ 648.52 and 648.58, no vessel may fish for scallops in or land scallops from the area known as the Hudson Canyon Sea Scallop Access Area, and no vessel may possess scallops in the Hudson Canyon Sea Scallop Access Area, unless such vessel is only transiting the area with all fishing gear unavailable for immediate use as defined in § 648.23(b), or, there is a compelling safety reason to be in such areas without all such gear being unavailable for immediate use. The Hudson Canyon Sea Scallop Access Area (copies of a chart depicting this area are available from the Regional Administrator upon request) is defined by straight lines connecting the following points in the order stated:

Point | Latitude | Longitude
H1 | 39 30′ N. | 73 10′ W.
H2 | 39 30′ N. | 72 30′ W.
H3 | 38 30′ N. | 73 30′ W.
H4 | 38 40′ N. | 73 50′ W.

(b) Virginia Beach Sea Scallop Access Area. Through February 28, 2003, except as provided in §§ 648.52 and 648.58, no vessel may fish for scallops in or land scallops from the area known as the Virginia Beach Sea Scallop Access Area, and no vessel may possess scallops in the Virginia Beach Sea Scallop Access Area, unless such vessel is only transiting the areas with all fishing gear unavailable for immediate use as defined in § 648.23(b), or, there is a compelling safety reason to be in such areas without all such gear being unavailable for immediate use. The Virginia Beach Sea Scallop Access Area (copies of a chart depicting this area are available from the Regional Administrator upon request) is defined by straight lines connecting the following points in the order stated:

Point | Latitude | Longitude
V1 | 37 00′ N. | 74 55′ W.
V2 | 37 00′ N. | 74 35′ W.
V3 | 36 25′ N. | 74 45′ W.
V4 | 36 25′ N. | 74 55′ W.

[FR Doc. 01-21952 Filed 8-29-01; 8:45 am]

BILLING CODE 3510-22-S